NUCLEAR REGULATORY COMMISSION

[Docket Nos. STN 50-456 and STN 50-457; STN 50-454 and STN 50-455; 50-461; 50-10, 50-237, and 50-249; 50-373 and 50-374; 50-352 and 50-353; 50-219; 50-171, 50-277, and 50-278; 50-254 and 50-265; 50-289; and 50-295 and 50-304]

Exelon Generation Company, LLC; Amergen Energy Company, LLC; Braidwood Station, Unit Nos. 1 and 2; Byron Station, Unit Nos. 1 and 2; Clinton Power Station, Unit 1; Dresden Nuclear Power Station, Units 1, 2, and 3; Lasalle County Station, Units 1 and 2; Limerick Generating Station, Units 1 and 2; Oyster Creek Nuclear Generating Station; Peach Bottom Atomic Power Station, Units 1, 2 and 3; Quad Cities Nuclear Power Station, Units 1 and 2; Three Mile Island Nuclear Station, Unit 1; and Zion Nuclear Power Station, Units 1 and 2; Exemption

1. Background

Exelon Generation Company, LLC, and AmerGen Energy Company, LLC (the licensees) are the holders of the Facility Operating License (FOL) Nos. NPF-72 and NPF-77 for the Braidwood Station, Unit Nos. 1 and 2 (Braidwood), which consists of two pressurized-water reactors (PWRs) located in Will County, Illinois; NPF-37 and NPF-66 for the Byron Station, Unit Nos. 1 and 2 (Byron), which consists of two PWRs located in Ogle County, Illinois; NPF-62 for the Clinton Power Station, Unit 1 (Clinton), which consists of a boiling-water reactor (BWR) located in DeWitt County, Illinois; DPR-2, DPR-19, and DPR-25 for the Dresden Nuclear Power Station, Units 1, 2, and 3 (Dresden), which consists of three BWRs located in Grundy County, Illinois; NPF-11 and NPF-18 for the LaSalle County Station, Units 1 and 2 (LaSalle), which consists of two BWRs located in LaSalle County, Illinois; NPF-39 and NPF-85 for the Limerick Generating Station, Units 1 and 2 (Limerick), which consists of two BWRs located in Montgomery County, Pennsylvania; DPR-16 for Oyster Creek Nuclear Generating Station (Oyster Creek), which consists of a BWR located in Ocean County, New Jersey; DPR-12, DPR-44, and DPR-56 for the Peach Bottom Atomic Power Station, Units 1, 2, and 3 (Peach Bottom), which consists of three BWRs located in York and Lancaster Counties, Pennsylvania; DPR-29 and DPR-30 for the Quad Cities Nuclear Power Station, Units 1 and 2 (Quad Cities), which consists of two BWRs located in Rock Island County, Illinois; DPR-50 for the Three Mile Island Nuclear Station, Unit 1 (Three Mile Island), which consists of a PWR located in Dauphin County, Pennsylvania; and DPR-39 and DPR-48 for the Zion Nuclear Power Station, Units 1 and 2 (Zion), which consists of two PWRs located in Lake County, Illinois. The licenses provide, among other things, that the facilities are subject to all the rules, regulations, and orders of the Nuclear Regulatory Commission (NRC, Commission) now or hereafter in effect.

2. Request/Action

Title 10 of the Code of Federal Regulations (10 CFR), Section 50.54(a)(3), requires that changes to the quality assurance program description that do not reduce commitments must be submitted to the NRC in accordance with the reporting requirements of 10 CFR 50.71(e).

The regulation at 10 CFR 50.71(e)(4) requires that revisions to the final safety analysis report (FSAR) be submitted annually or six months after a refueling outage, provided the interval between updates does not exceed 24 months. As an alternative, the licensees propose that changes to the quality assurance program that do not reduce commitments be submitted on a 24-month calendar schedule, not to exceed 24 months from the previous submittal. The exemption would apply to each of the licensees' plants identified above.

3. Discussion

Pursuant to 10 CFR 50.12, the Commission may, upon application by any interested person or upon its own initiative, grant exemptions from the requirements of 10 CFR part 50 when (1) the exemptions are authorized by law, will not present an undue risk to public health and safety, and are consistent with the common defense and security; and (2) when special circumstances are present. Special circumstances are present whenever, according to 10 CFR 50.12(a)(2)(ii), “Application of the regulation in the particular circumstances would not serve the underlying purpose of the rule or is not necessary to achieve the purpose of the rule”. Operational quality assurance programs are generally described in Chapter 17.2 of a licensee's Updated Safety Analysis Report (USAR) or, alternately, in a topical report incorporated into the USAR by reference. The licensees' quality assurance program, described in the Quality Assurance Topical Report (QATR), is common to the 21 units requesting the exemption. Compliance with 10 CFR 50.54(a)(3) would require these changes to be submitted annually or after a refueling outage for each of the licensees' units.

The licensees stated that the proposed exemption is strictly administrative and does not reduce commitments or effectiveness of the quality assurance program as described in the QATR, and does not adversely affect plant equipment, operation, or procedures. The exemption will not alter the manner in which changes to the common QATR are evaluated in order to ensure that there is no reduction in commitment. Changes to the common QATR will be reviewed through the existing applicable administrative and programmatic control processes to ensure that QATR changes are properly evaluated and implemented. The methods and procedures used to evaluate changes to the common QATR are not changed or modified.

The underlying purpose of the rule is to ensure that periodic submittals required under 10 CFR 50.54(a)(3) would allow the NRC staff to provide regulatory oversight of changes to the licensees' quality assurance program, and to ensure that the changes are consistent with the regulations.

The exemption requested by the licensees only extends the reporting period, and does not exceed the time period between successive updates established by 10 CFR 50.71(e). Reporting of routine and administrative changes to the quality assurance program that do not reduce commitments for each of the licensees' units over a 2-year period is not consistent with the underlying purpose of the rule, nor is it necessary to achieve the purpose of the rule. Therefore, the NRC staff concludes that, pursuant to 10 CFR 50.12(a)(2)(ii), special circumstances are present.

The NRC staff examined the licensees' rationale that supports the exemption request and concluded that the alternative reporting cycle of 24 months for submitting QATR changes specified under 10 CFR 50.54(a)(3) provides adequate control and is consistent with the underlying purpose of 10 CFR 50.54(a)(3).

Based on the foregoing, the NRC staff concludes that the changes specified in 10 CFR 50.54(a)(3) are administrative and routine in nature. Also, the NRC staff concludes that the requested exemption would not result in any significant reduction in the effectiveness of the quality assurance program implemented by the licensees. Therefore, the NRC staff concludes that the proposed exemption would not present an undue risk to the public health and safety.

4. Conclusion

Accordingly, the Commission has determined that pursuant to 10 CFR Part 50.12, the exemption is authorized by law, will not present an undue risk to the public health and safety, and is consistent with the common defense and security. Also, special circumstances are present. Therefore, the Commission hereby grants the licensees an exemption from the requirements of 10 CFR 50.54(a)(3) for Braidwood, Byron, Clinton, Dresden, LaSalle, Limerick, Oyster Creek, Peach Bottom, Quad Cities, Three Mile Island, and Zion stations.

Pursuant to 10 CFR 51.32, the Commission has determined that the granting of this exemption will have no significant effect on the quality of the human environment (71 FR 29359).

This exemption is effective upon issuance.

Dated at Rockville, Maryland, this 27th day of June 2006.
For the Nuclear Regulatory Commission.
Catherine Haney,
Director, Division of Operating Reactor Licensing, Office of Nuclear Reactor Regulation.

[FR Doc. E6-10622 Filed 7-6-06; 8:45 am]

BILLING CODE 7590-01-P